DEPARTMENT OF STATE

[Public Notice: 11342]

Notice of Shipping Coordination Committee Meeting in Preparation for International Maritime Organization Meeting

The Department of State will conduct a public meeting of the Shipping Coordination Committee at 10:00 a.m. on Thursday, April 29, 2021, by way of teleconference. Members of the public may participate up to the capacity of the teleconference phone line, which will handle 500 participants. To access the teleconference line, participants should call (202) 475-4000 and use Participant Code: 138 541 34#.

The primary purpose of the meeting is to prepare for the 103rd session of the International Maritime Organization's (IMO) Maritime Safety Committee to be held remotely, May 5 to 14, 2021.

The agenda items to be considered include:

—Adoption of the agenda; report on credentials

—Decisions of other IMO bodies

—Consideration and adoption of amendments to mandatory instruments

—Capacity-building for the implementation of new measures

—Regulatory scoping exercise for the use of Maritime Autonomous Surface Ships (MASS)

—Development of further measures to enhance the safety of ships relating to the use of fuel oil

—Goal-based new ship construction standards

—Measures to improve domestic ferry safety

—Measures to enhance maritime security

—Piracy and armed robbery against ships

—Unsafe mixed migration by sea

—Formal safety assessment

—Human element, training and watchkeeping (report of the seventh session of the Sub-Committee)

—Navigation, communications and search and rescue

—Ship design and construction

—Ship systems and equipment

—Application of the Committee's method of work

—Work programme

—Election of Chair and Vice-Chair for 2021

—Any other business

—Consideration of the report of the Committee on its 103rd session

Please note: the Maritime Safety Committee may, on short notice, adjust the MSC 103 agenda to accommodate the constraints associated with the virtual meeting format. Any changes to the agenda will be relayed to those who contact the meeting coordinator to confirm their attendance at the public meeting.

Those who plan to participate may contact the meeting coordinator, LT Jessica Anderson, by email at Jessica.P.Anderson@uscg.mil, by phone at (202) 372-1376, or in writing at 2703 Martin Luther King Jr. Ave. SE Stop 7509, Washington DC 20593-7509.

Additional information regarding this and other IMO public meetings may be found at: https://www.dco.uscg.mil/IMO.

Jeremy M. Greenwood,
Executive Secretary, Shipping Coordinating Committee, Coast Guard Liaison Officer, Office of Ocean and Polar Affairs, Department of State.

[FR Doc. 2021-02101 Filed 1-29-21; 8:45 am]

BILLING CODE 4710-09-P